DEPARTMENT OF THE INTERIOR

Bureau of Land Management

[LLWYR05000.L51100000.GN0000.LVEMK11CW630-WYW168184]

Notice of Availability of the Draft Environmental Impact Statement for the Sheep Mountain Uranium Project, Fremont County, Wyoming

AGENCY: Bureau of Land Management, Interior.

ACTION: Notice of Availability.

SUMMARY: In accordance with the National Environmental Policy Act of 1969, as amended (NEPA), and the Federal Land Policy Act of 1976 (FLPMA) and associated regulations, the Bureau of Land Management (BLM) has prepared a Draft Environmental Impact Statement (EIS) for the Sheep Mountain Uranium Project and by this notice is announcing the opening of the comment period.

DATES: To ensure comments will be considered, the BLM must receive written comments on the Sheep Mountain Uranium Project Draft EIS within 45 days following the date the Environmental Protection Agency publishes its Notice of Availability in the Federal Register. The BLM will announce future meetings or hearings and any other public involvement activities related to this Draft EIS at least 15 days in advance through public notices, media releases and/or mailings.

ADDRESSES: Comments on the Draft EIS may be submitted by any of the following methods:

• Web site: http://www.blm.gov/wy/st/en/info/NEPA/documents/lfo/gashills.html.

• Email: blm_wy_sheep_mountain_eis@blm.gov.

• Mail: Chris Krassin, Project Manager, BLM Lander Field Office, 1335 Main Street, Lander, WY 82520.

Copies of the Sheep Mountain Uranium Project Draft EIS are available in the Lander Field Office at the above address, the BLM Wyoming State Office in Cheyenne, Wyoming, and online at the above Web site.

FOR FURTHER INFORMATION CONTACT: Chris Krassin, Project Manager, telephone: 307-332-8400; address: BLM Lander Field Office, 1335 Main Street, Lander, WY 82520; or email: blm_wy_sheep_mountain_eis@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Titan Uranium USA Inc., a wholly owned subsidiary of Titan Uranium Inc., submitted a 43 CFR 3809 Plan of Operations (Plan) to the BLM Lander Field Office (LFO) for the Sheep Mountain Uranium Project (Project) in Fremont County, Wyoming, on June 16, 2011. On February 29, 2012, Energy Fuels Inc. merged with Titan Uranium Inc. and all of its subsidiaries are now wholly-owned subsidiaries of Energy Fuels Resources (USA) Inc. (Energy Fuels). Energy Fuels will continue as the owner and operator of the Sheep Mountain Project. Energy Fuels submitted revised Plans to the BLM on July 16, 2012, August 29, 2013, and January 14, 2014. The 2014 revision consisted of a revision to the Wyoming Department of Environmental Quality—Land Quality Division (WDEQ-LQD) Mine Permit 381C and a final update to the Plan for which the EIS is based.

The Project is located 8 road miles south of Jeffrey City, Wyoming, in south-central Fremont County, in the Crooks Gap-Green Mountain District which was extensively mined starting in the 1950s. This area lies 62 road miles southeast of Riverton, Wyoming and 105 road miles west of Casper, Wyoming. The Project is within an active State of Wyoming Permit to Mine (No.381C) administered by the WDEQ-LQD. Revisions to the WDEQ-LQD permit have been submitted by Energy Fuels. Energy Fuels is currently considering applying for a U.S. Nuclear Regulatory Commission (NRC) Source Materials License for the proposed heap leach and processing facility.

Energy Fuels proposes to explore for and develop uranium reserves to produce approximately 1.0 million to 2.0 million pounds of uranium per year over an anticipated project life of 20 years. Uranium would be extracted using conventional open-pit and underground mining methods. Ore processing into yellowcake (U3O8) would occur either on-site using a heap leach and solvent extraction/ion exchange or offsite utilizing the existing conventional Sweetwater Uranium Mill approximately 30 miles to the south (NRC License SUA-1350). The boundary of the Sheep Mountain Project Area (Project Area) is within the active WDEQ-LQD 381C Mine Permit Area, encompassing approximately 3,611 acres (5.6 square miles) of which approximately 929 acres would be disturbed under the Proposed Action Alternative. Approximately 62 percent (572.5 acres) of the surface within the Proposed Action disturbance area historically was disturbed by previous mining and exploration activities.

The Draft EIS addresses the direct, indirect and cumulative impacts of the Proposed Action and two alternatives including the No Action Alternative and the BLM Mitigation Alternative.

The No Action Alternative, as required by NEPA, describes conditions that would occur if the proposed project were denied. This includes existing reclamation efforts on 227 acres of existing disturbance within the Project Area as required by the financial guarantee held for Mine Permit 381C. This reclamation includes a portion of the McIntosh pit and the existing underground mines, roads and facilities. Reclamation of the entire McIntosh Pit would be completed by the Wyoming Department of Environmental Quality—Abandoned Mine Lands program (WDEQ-AML) in coordination with Energy Fuels.

The Proposed Action Alternative is the project as proposed by Energy Fuels in their Plan, as amended, and the revised WDEQ-LQD Mine Permit 381C.

The BLM Mitigation Alternative would utilize the same conventional mining techniques over the same period as under the Proposed Action, but modifications to the proposed reclamation plan and development of a transportation plan would be required. In addition, the BLM Mitigation Alternative would identify opportunities to apply hierarchical mitigation strategies for on-site, regional and compensatory mitigation strategies and identify areas appropriate to apply landscape-level conservation and management actions to achieve regional mitigation objectives.

The Notice of Intent to prepare an EIS was published in the Federal Register on August 23, 2011 (76 FR 52688). Key issues identified during scoping were related to the development of additional alternatives, cumulative impacts, mitigation and monitoring and potential impacts to range, water, recreation, and wildlife resources.

The public is encouraged to comment on any of these alternatives. The BLM asks that those submitting comments make them as specific as possible with reference to chapters, page numbers and paragraphs in the Draft EIS document. Comments that contain only opinions or preferences will not receive a formal response; however, they will be considered and included as part of the BLM decision-making process. The most useful comments will include new technical or scientific information, identification of data gaps in the impact analysis, or technical or scientific rationale for opinions or preference.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Donald A. Simpson,
State Director.

[FR Doc. 2015-00453 Filed 1-15-15; 8:45 am]

BILLING CODE 4310-22-P